ENVIRONMENTAL PROTECTION AGENCY

[FRL-8451-6]

Operator Training Grant Guidelines for States; Solid Waste Disposal Act, Subtitle I, as Amended by Title XV, Subtitle B of the Energy Policy Act of 2005

Correction

In notice document E7-15493 beginning on page 44523 in the issue of Wednesday, August 8, 2007, make the following correction:

On page 44528, the graphic at the top of the page is being reprinted below.

[FR Doc. Z7-15493 Filed 8-9-07; 8:45 am]

BILLING CODE 1505-01-D